DEPARTMENT OF COMMERCE

National Oceanic and Atmospheric Administration

Proposed Information Collection; Comment Request; Framework Adjustment 4 to the Monkfish Fishery Management Plan

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 5, 2010.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Allison McHale, (978) 281-9103 or Allison.McHale@noaa.gov.

SUPPLEMENTARY INFORMATION:

I. Abstract

Under the Magnuson-Stevens Fishery Conservation and Management Act, the Secretary of Commerce (Secretary) has the responsibility for the conservation and management of marine fishery resources. Much of this responsibility has been delegated to the National Oceanic and Atmospheric Administration's (NOAA), National Marine Fisheries Service (NMFS). Under this stewardship role, the Secretary was given certain regulatory authorities to ensure the most beneficial uses of these resources. One of the regulatory steps taken to carry out the conservation and management objectives is to collect data from users of the resource. Thus, as regional Fishery Management Councils develop specific Fishery Management Plans (FMP), the Secretary has promulgated rules for the issuance and use of a Vessel Monitoring System (VMS) and to obtain fishery-dependent data to monitor, evaluate, and enforce fishery regulations.

The Monkfish FMP contains a provision that enables limited access monkfish vessels fishing in the Northern Fishery Management Area (NFMA) to change their days-at-sea (DAS) declaration through their VMS from a Northeast (NE) multispecies Category A DAS to a monkfish DAS while at sea, i.e., before crossing the VMS demarcation line upon the vessel's return to port or leaving the NFMA. The information gathered from a vessel's declaration of a monkfish DAS in the NFMA enables NMFS to monitor the overall fishing effort, in the form of monkfish DAS usage, being directed on the monkfish resource within this management area, and is also used in ongoing analyses of the type of management actions needed to effectively manage monkfish stocks. This information is also used by NMFS to monitor DAS usage by limited access monkfish vessels fishing in the NFMA to determine if these vessels have exceeded their annual allocation of monkfish DAS.

II. Method of Collection

All information is submitted electronically through VMS units.

III. Data

OMB Control Number: 0648-0561.

Form Number: None.

Type of Review: Regular submission.

Affected Public: Business and other for-profit organizations.

Estimated Number of Respondents: 450.

Estimated Time per Response: 5 minutes per VMS declaration.

Estimated Total Annual Burden Hours: 1,158.

Estimated Total Annual Cost to Public: $6,975.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 29, 2009.
Gwellnar Banks,
Management Analyst, Office of the Chief Information Officer.

[FR Doc. E9-31178 Filed 12-31-09; 8:45 am]

BILLING CODE 3510-22-P